DEPARTMENT OF THE INTERIOR

Fish and Wildlife Service

St. Catherine Creek National Wildlife Refuge

AGENCY: Fish and Wildlife Service.

ACTION: Notice of intent to prepare a comprehensive conservation plan and environmental assessment for St. Catherine Creek National Wildlife Refuge, located in Adams County, Mississippi.

SUMMARY: This notice advises the public that the Fish and Wildlife Service, Southeast Region, intends to gather information necessary to prepare a comprehensive conservation plan and environmental assessment pursuant to the National Environmental Policy Act and its implementing regulations. The Service is furnishing this notice in compliance with the National Refuge System Administration Act of 1966, as amended (16 U.S.C. 668dd et seq.), to achieve the following:

(1) Advise other agencies and the public of our intentions, and

(2) Obtain suggestions and information on the scope of issues to include in the environmental document.

Special mailings, newspaper articles, and other media announcements will be used to inform the public and government and non-government agencies of the opportunities for input throughout the planning process.

ADDRESSES: Address comments, questions, and requests for more information to the following: Laura King, Natural Resource Planner, Central Mississippi National Wildlife Refuge Complex, 728 Yazoo Refuge Road, Hollandale, Mississippi 38748; Telephone 662-839-2638; E-Mail Laura_King@fws.gov. Additional information concerning this refuge may be found at the Service's Internet site http://www.fws.gov.

SUPPLEMENTARY INFORMATION: By Federal law, all lands within the National Wildlife Refuge System are to be managed in accordance with an approved comprehensive conservation plan. The plan guides management decisions and identifies refuge goals, long-range objectives, and strategies for achieving refuge purposes. The planning process will consider many elements including wildlife and habitat management, public recreational activities, and cultural resource protection. Public input into the planning process is essential.

St. Catherine Creek National Wildlife Refuge was established in January 1990, to preserve, improve, and create habitat for waterfowl. The refuge encompasses 24,125 acres and is located in the western section of Adams County in southwest Mississippi, 7 miles south of Natchez, Mississippi. The western boundary of the refuge is the Mississippi River with the eastern boundary following the bluffs and the southern boundary, the Homochitto River.

Authority: This notice is published under the authority of the National Wildlife Refuge System Improvement Act of 1997, Pub. L. 105-57.

Dated: May 3, 2003.
J. Mitch King,
Acting Regional Director.

[FR Doc. 03-12536 Filed 5-19-03; 8:45 am]

BILLING CODE 4310-55-M